DEPARTMENT OF TRANSPORTATION

Federal Aviation Administration

14 CFR Part 97

[Docket No. 30426; Amdt. No. 3107]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective October 20, 2004. The compliance date for each SIAP is specified in the amendatory provisions.

The incorporation by reference of certain publications listed in the regulations is approved by the Director of the Federal Register as of October 20, 2004.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The National Archives and Records Administration (NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on October 8, 2004.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * *Effective November 25, 2004

Huntsville, AL, Huntsville Intl-Carl T. Jones Field, RNAV (GPS) Z RWY 18L, Orig

Huntsville, AL, Huntsville Intl-Carl T. Jones Field, RNAV (GPS) Y RWY 18L, Orig

Teller, AK, Teller, RNAV (GPS) RWY 7, Orig

Teller, AK, Teller, RNAV (GPS) RWY 25, Orig

De Queen, AR, J. Lynn Helms Sevier County, RNAV (GPS) RWY 8, Orig

De Queen, AR, J. Lynn Helms Sevier County, GPS RWY 8, Orig-B, CANCELLED

Hot Springs, AR, Memorial Field, RNAV (GPS) RWY 5, Amdt 1

Mena, AR, Mena Intermountain Muni, RNAV (GPS) RWY 17, Orig-A

North Little Rock, AR, North Little Rock Muni, RNAV (GPS) RWY 35, Orig

North Little Rock, AR, North Little Rock Muni, GPS RWY 35, Orig, CANCELLED

Paragould, AR, Kirk Field, RNAV (GPS) RWY 4, Orig-A

Paragould, AR, Kirk Field, RNAV (GPS) RWY 22, Orig-A

Pine Bluff, AR, Grider Field, RNAV (GPS) RWY 18, Orig

Russellville, AR, Russellville Rgnl, RNAV (GPS) RWY 25, Orig-A

Carlsbad, CA, McClellan-Palomar, RNAV (GPS) RWY 24, Amdt 1

Inyokern, CA, Inyokern, RNAV (GPS) Y RWY 2, Orig-A

Palm Springs, CA, Bermuda Dunes, RNAV (GPS) RWY 10, Orig-B

Colorado Springs, CO, City of Colorado Springs Muni, RNAV (GPS) RWY 17L, Orig-A

Grand Junction, CO, Walker Field, RNAV (GPS) RWY 29, Amdt 1A

Longmont, CO, Vance Brand, RNAV (GPS)-B, Orig-A

Longmont, CO, Vance Brand, RNAV (GPS) RWY 29, Orig-A

Meeker, CO, Meeker, RNAV (GPS)-B, Orig-A

Meeker, CO, Meeker, RNAV (GPS) RWY 3, Orig-A

Trinidad, CO, Perry Stokes, RNAV (GPS) RWY 3, Orig-A

Crestview, FL, Bob Sikes, RNAV (GPS) RWY 17, Orig

Carrollton, GA, West Georgia Regional-OV Gray Field, NDB RWY 35, Amdt 3

Carrollton, GA, West Georgia Regional-OV Gray Field, ILS OR LOC/NDB RWY 35, Orig

Carrollton, GA, West Georgia Regional-OV Gray Field, LOC RWY 34, Amdt 2, CANCELLED

Kailua-Kona, HI, Kona Intl at Keahole, VOR OR TACAN RWY 35, Amdt 7

Kailua-Kona, HI, Kona Intl at Keahole, VOR/DME OR TACAN RWY 17, Amdt 4

Kailua-Kona, HI, Kona Intl at Keahole, RNAV (GPS) RWY 17, Orig-B

Kailua-Kona, HI, Kona Intl at Keahole, RNAV (GPS) Z RWY 35, Orig-B

Kamuela, HI, Waimea-Kohala, RNAV (GPS) RWY 4, Orig-A

Kamuela, HI, Waimea-Kohala, RNAV (GPS) RWY 22, Orig-A

Elkhart, KS, Elkhart-Morton County, RNAV (GPS) RWY 17, Orig-A

Elkhart, KS, Elkhart-Morton County, RNAV (GPS) RWY 22, Orig-A

Elkhart, KS, Elkhart-Morton County, RNAV (GPS) RWY 35, Orig-A

Eureka, KS, Eureka Muni, RNAV (GPS) 18, Orig-A

Kingman, KS, Kingman Airport-Clyde Cessna Field, RNAV (GPS) RWY 18, Orig-A

Kingman, KS, Kingman Airport-Clyde Cessna Field, RNAV (GPS) RWY 36, Orig-A

Lawrence, KS, Lawrence Muni, RNAV (GPS) RWY 15, Orig-A

Topeka, KS, Philip Billard Muni, RNAV (GPS) RWY 18, Orig-A

Topeka, KS, Philip Billard Muni, RNAV (GPS) RWY 36, Orig-A

Topeka, KS, Philip Billard Muni, RNAV (GPS) RWY 4, Orig-A

Norton, KS, Norton Muni, RNAV (GPS) RWY 16, Orig-A

Wichita, KS, Cessna Aircraft Field, RNAV (GPS)-D, Orig-A

Beverly, MA, Beverly Muni, VOR RWY 16, Amdt 5

Beverly, MA, Beverly Muni, LOC RWY 16, Amdt 6

Beverly, MA, Beverly Muni, NDB-A, Amdt 13

Beverly, MA, Beverly Muni, RNAV (GPS) RWY 16, Orig

Beverly, MA, Beverly Muni, GPS RWY 16, Orig-A, CANCELLED

Frederick, MD, Frederick Muni, ILS OR LOC RWY 23, Amdt 5

Ocean City, MD, Ocean City Muni, RNAV (GPS) RWY 14, Orig-C

Portland, ME, Portland Intl Jetport, NDB RWY 11, Amdt 16

Portland, ME, Portland Intl Jetport, ILS OR LOC RWY 11, Amdt 1

Portland, ME, Portland Intl Jetport, RNAV (GPS) RWY 11, Amdt 1

Broken Bow, NE, Broken Bow Muni, RNAV (GPS) RWY 32, Orig

Broken Bow, NE, Broken Bow Muni, VOR/DME RWY 32, Orig

Wayne, NE, Wayne Muni, RNAV (GPS) RWY 22, Orig

Wayne, NE, Wayne Muni, NDB RWY 17, Orig

Wayne, NE, Wayne Muni, NDB RWY 22, Orig

Wayne, NE, Wayne Muni, NDB RWY 35, Orig

Gallup, NM, Gallup Muni, RNAV (GPS) RWY 6, Orig

Gallup, NM, Gallup Muni, RNAV (GPS) RWY 24, Orig

Gallup, NM, Gallup Muni, GPS RWY 6, Orig-A, CANCELLED

Gallup, NM, Gallup Muni, GPS RWY 24, Orig-A, CANCELLED

Ely, NV, Ely Airport-Yelland Field, RNAV (GPS) RWY 18, Orig-B

Olean, NY, Cattaraugus County-Olean, RNAV (GPS) RWY 4, Orig

Olean, NY, Cattaraugus County-Olean, RNAV (GPS) RWY 22, Orig

Olean, NY, Cattaraugus County-Olean, LOC RWY 22, Amdt 5B

Olean, NY, Cattaraugus County-Olean, GPS RWY 4, Orig-A, CANCELLED

Olean, NY, Cattaraugus County-Olean, GPS RWY 22, Orig-A, CANCELLED

Olean, NY, Cattaraugus County-Olean, VOR/DME RNAV RWY 22, AMDT 4B, CANCELLED

Potsdam, NY, Potsdam Muni (Damon Field), NDB RWY 24, Amdt 4

Potsdam, NY, Potsdam Muni (Damon Field), NDB OR GPS RWY 24, Amdt 3A, CANCELLED

Potsdam, NY, Potsdam Muni (Damon Field), RNAV (GPS) RWY 24, Orig

Rochester, NY, Greater Rochester Intl, ILS OR LOC RWY 22, Amdt 6

Seneca Falls, NY, Finger Lakes Regional, RNAV (GPS) RWY 1, Amdt 2

Syracuse, NY, Syracuse Hancock Intl, ILS RWY 28, Amdt 33A

Syracuse, NY, Syracuse Hancock Intl, RNAV (GPS) RWY 28, Orig-A

Medford, OK, Medford Muni, RNAV (GPS) RWY 35, Orig-A

Clarion, PA, Clarion County, VOR-A, Amdt 2

Clarion, PA, Clarion County, RNAV (GPS) RWY 6, Orig

Clarion, PA, Clarion County, RNAV (GPS) RWY 24, Orig

Clarion, PA, Clarion County, VOR/DME RNAV OR GPS RWY 6, Orig-B, CANCELLED

Clarion, PA, Clarion County, VOR/DME RNAV OR GPS RWY 24, Orig-A, CANCELLED

Doylestown, PA, Doylestown, VOR RWY 23, Amdt 7

Doylestown, PA, Doylestown, RNAV (GPS) RWY 23, Orig

Rutland, VT, Rutland State, LOC Z RWY 19, Amdt 1

Rutland, VT, Rutland State, RNAV (GPS) RWY 19, Orig

Rutland, VT, Rutland State, GPS RWY 19, Amdt 2B, CANCELLED

Seattle, WA, Boeing Field/King County Intl, RNAV (GPS) RWY 13R, Orig

Walla Walla, WA, Walla Walla Regional, RNAV (GPS) RWY 2, Orig

Walla Walla, WA, Walla Walla Regional, GPS RWY 2, Orig-A, CANCELLED

* * *Effective December 23, 2004

Frankfort, IN, Frankfort Muni, RNAV (GPS) RWY 27, Orig-A

Greencastle, IN, Putnam County, RNAV (GPS) RWY 36, Orig-A

Marion, IN, Marion Muni, ILS OR LOC RWY 4, Amdt 7A

Hibbing, MN, Chisholm-Hibbing, VOR RWY 13, Amdt 13

[FR Doc. 04-23374 Filed 10-19-04; 8:45 am]

BILLING CODE 4910-13-P